NUCLEAR REGULATORY COMMISSION

10 CFR Part 73

Re-evaluation of Power Reactor Physical Protection Regulations and Position on a Definition of Radiological Sabotage

AGENCY: Nuclear Regulatory Commission.

ACTION: Request for comments.

SUMMARY: The Nuclear Regulatory Commission (NRC) is re-evaluating its power reactor physical protection regulations and the proposed definition of radiological sabotage, using performance criteria as the basis. The purpose of this re-evaluation is to state precisely what kinds of sabotage-induced events a licensee is expected to protect against. This request invites public comment on these issues. The NRC is publishing as an attachment to this Federal Register Notice, a Commission paper entitled, “Staff Re-Evaluation of Power Reactor Physical Protection Regulations and Position on a Definition of Radiological Sabotage,” (SECY-00-0063).

DATES: Submit comments by August 23, 2000. Comments received after this date will be considered if it is practical to do so, but the Commission is able to ensure consideration only for comments received on or before this date.

ADDRESSES: Submit comments to: Secretary, U.S. Nuclear Regulatory Commission, Washington, DC 20555-0001. Attention: Rulemakings and Adjudications Staff.

Deliver comments to 11555 Rockville Pike, Rockville, Maryland, between 7:30 am and 4:15 pm on Federal workdays.

You may also provide comments via the NRC's interactive rulemaking website at (http://ruleforum.llnl.gov). This site provides the capability to upload comments as files (any format), if your web browser supports that function. For information about the interactive rulemaking website, contact Ms. Carol Gallagher, (301) 415-5905 (e-mail: CAG@nrc.gov).

The attached Commission paper is associated with a rulemaking plan, “Physical Security Requirements for Exercising Power Reactor Licensees” Capability to Respond to Safeguards Contingency Events,” which is located on the NRC's rulemaking website.

Copies of any comments received and certain documents related to this re-evaluation may be examined at the NRC Public Document Room, 2120 L Street NW, (Lower Level), Washington, DC. These same documents may be viewed and downloaded electronically via the rulemaking website.

FOR FURTHER INFORMATION CONTACT: Richard P. Rosano, Office of Nuclear Reactor Regulation, U.S. Nuclear Regulatory Commission, Washington, DC 20555-0001, telephone (301) 415-2933, e-mail: RSS@nrc.gov.

SUPPLEMENTARY INFORMATION:

Background

In a Staff Requirements Memorandum (SRM) of November 22, 1999, the Commission approved the staff's recommendation in SECY-99-241 (Rulemaking Plan, Physical Security Requirements for Exercising Power Reactor Licensees' Capability to Respond to Safeguards Contingency Events, October 5, 1999) to begin a comprehensive review of 10 CFR 73.55 and associated power reactor physical protection regulations. The Commission directed the staff to provide position papers on: (1) The attributes of the design basis threat; and (2) the definition of radiological sabotage. The purpose of the first position paper is to identify the types of weapons and equipment that may be used in the design basis threat and clarify the intent of the regulations concerning the strength of the response and the strategy of a licensee's security organization. The purpose of the second position paper is to define precisely what kinds of sabotage-induced events a licensee is expected to protect against. This request for comments responds to the Commission's second direction to the NRC staff regarding development of a position paper on radiological sabotage at reactors.

Discussion

In accordance with the SRM dated November 22, 1999, the staff began considering the fundamental issues that would guide a re-evaluation of the power reactor physical protection requirements, including conducting several public meetings with stakeholders on the subject. This process highlighted a longstanding issue with the implementation of 10 CFR 73.55 requirements at power reactors. Specifically, the implementation of these requirements assumed that compliance with the prescriptive requirements of the physical protection plans written in accordance with 10 CFR 73.55(b) through (h) would provide the high assurance required by 10 CFR 73.55(a). In fact, results of force-on-force drills conducted pursuant to the Regulatory Effectiveness Review (RER) program and the Operational Safeguards Response Evaluation (OSRE) program cast doubt on the validity of this assumption, due in part to the way the requirements were (a) understood by licensees and (b) inspected and enforced by NRC. However, overall site security and the security organization's readiness to respond to an adversary attack were tested and confirmed during regional inspection activity and OSREs.

The staff examined approaches and principles used in existing NRC regulations, including the use of margin of safety. The staff also integrated appropriate results of previous analyses, such as the study to re-evaluate the guidelines and bases used to determine vital equipment and areas to be protected in nuclear power plants, as documented in “Vital Equipment/Area Guidelines Study: Vital Area Committee Report,” NUREG-1178 (March 1988).

In the attachment to SECY-99-241, the staff proposed to review the definition of radiological sabotage and consider ways to clarify the issue in a way that is meaningful for the protective strategy and enhances the process of performance evaluation. After considerable discussion, the staff determined that a definition of radiological sabotage at power reactors in the new rule may not be necessary if the regulation could delineate more clearly the performance criteria to be used as the basis for the new physical protection regulations. Several public meetings were held with representatives from the Nuclear Energy Institute (NEI), the Nuclear Control Institute (NCI), and the media, from which the staff developed a set of physical protection performance criteria that are consistent with criteria used in other areas of nuclear power plant regulation. These performance criteria would provide the risk-informed basis for the comprehensive review of 10 CFR 73.55 and associated power reactor physical protection requirements, including the exercise requirement.

These performance criteria are based on ensuring that a plant retains the capability to shutdown the reactor safely and assure long-term heat removal in the face of a malevolent act by the design basis threat against the facility. The staff is developing performance criteria and requirements for 10 CFR 73.55(a) to protect the plant against a malevolent act by protecting critical safety functions, with an appropriate margin of safety, that include:

(1) reactivity control;

(2) reactor coolant makeup for maintaining reactor and spent fuel pool inventory;

(3) reactor and spent fuel pool heat removal;

(4) containment of radioactive materials;

(5) process monitoring necessary to perform and control the above functions; and

(6) actions necessary to support the operation of the equipment used for safe shutdown.

These performance criteria would clarify the scope of radiological sabotage against which a licensee is expected to protect. In 10 CFR 73.55(b) and succeeding paragraphs, specific performance criteria would be provided for the physical security organization and response elements. As described in SECY-99-241, new paragraphs of 10 CFR 73.55 would require periodic drills and exercises and corrective actions for vulnerabilities identified in the exercises.

The above performance criteria represent a new concept in formulating security programs and aligning security with other areas of regulation involving plant operations. This approach would provide insights on how the remainder of 10 CFR 73.55 might be revised. The staff believes that it is important to continue to have stakeholder involvement in the early stages of development of performance criteria.

Dated at Rockville, Maryland, this 5th day of June, 2000.
For the Nuclear Regulatory Commission.
Annette L. Vietti-Cook,
Secretary of the Commission.

Rulemaking Issue—SECY-00-0063

(Notation Vote)

March 9, 2000.

For: The Commissioners.

From: William D. Travers, Executive Director for Operations.

Subject: Staff Re-evaluation of Power Reactor Physical Protection Regulations and Position on a Definition of Radiological Sabotage.

Purpose: To obtain Commission approval of the staff's (a) approach to re-evaluation of the power reactor physical protection regulations, and (b) definition of radiological sabotage by providing design criteria as the basis for physical protection regulations.

Background: In the Staff Requirements Memorandum (SRM) of November 22, 1999, the Commission approved the staff's recommendation in SECY-09-241 (Rulemaking Plan, Physical Security Requirements for Exercising Power Reactor Licensees' Capability to Respond to Safeguards Contingency Events, October 5, 1999) to begin a comprehensive review of 10 CFR 73.55 and associated power reactor physical protection regulations, and directed the staff to provide position papers on: (a) the attributes of the design basis threat, and (b) the definition of radiological sabotage. The first is used to define the weapons and equipment used by the design basis threat and clarify the intent of the regulations concerning the response strength and strategy of the licensees' security organizations. The purpose of the second is to precisely state what sabotage-induced event sequences the licensees are expected to protect against. This paper addresses the second request regarding development of a position paper on radiological sabotage at reactors.

Contact: Richard Rosano, NRR, (301) 415-2933.

Discussion: In accordance with the Staff Requirements Memorandum dated November 22, 1999, the staff began consideration of the fundamental issues that would guide a re-evaluation of the power reactor physical protection requirements, including conducting several public meetings with stakeholders on the subject. This process highlighted a longstanding issue with the implementation of 10 CFR 73.55 requirements at power reactors. Specifically, the implementation of these requirements assumed that compliance with the prescriptive requirements of the physical protection plans written in accordance with 10 CFR 73.55(b) through (h) would provide the high assurance required by 10 CFR 73.55(a). In fact, results of force-on-force drills conducted pursuant to the Regulatory Effectiveness Review (RER) program and the Operational Safeguards Response Evaluation (OSRE) program cast doubt on the validity of this assumption, due in part to the way the requirements were (a) understood by licensees and (b) inspected and enforced by NRC. However, overall site security and the security organization's readiness to respond to an adversary attack were tested and confirmed during regional inspection activity and OSREs.

The staff examined approaches and principles used in existing NRC regulations, including the use of margin of safety. The staff also integrated appropriate results of previous analyses, such as the study to re-evaluate the guidelines and bases used to determine vital equipment and areas to be protected in nuclear power plants, as documented in “Vital Equipment/Area Guidelines Study: Vital Area Committee Report,” NUREG-1178.

In the attachment to SECY-99-241, the staff proposed to review the definition of radiological sabotage and consider ways to clarify the issue in a way that is meaningful for the protective strategy and enhances the process of performance evaluation. After considerable discussion, the staff determined that a definition of radiological sabotage at power reactors in the new rule may not be necessary if the regulation could delineate more clearly the performance criteria to be used as the basis for the new physical protection regulations. A series of public meetings were conducted, including representatives from Nuclear Energy Institute (NEI), Nuclear Control Institute (NCI), and media, from which the staff developed a set of physical protection performance criteria in terms of public protection that are consistent with criteria used in other areas of nuclear power plant regulation. These performance criteria would provide the risk-informed basis for the comprehensive review of 10 CFR 73.55 and associated power reactor physical protection requirements, including the exercise requirement.

These performance criteria are based on ensuring that a plant retains the capability to safely shutdown the reactor and assure long-term heat removal in the face of a malevolent act by the design basis threat against the facility. The staff is developing performance criteria and requirements for 10 CFR 73.55(a) to protect the plant against a malevolent act by protecting critical safety functions, including appropriate margin of safety, including:

(1) reactivity control,

(2) reactor coolant makeup for maintaining reactor and spent fuel pool inventory,

(3) reactor and spent fuel pool heat removal,

(4) containment of radioactive materials,

(5) process monitoring necessary to perform and control the above functions, and

(6) actions necessary to support the operation of the equipment used for safe shutdown.

These performance criteria would clarify the scope of radiological sabotage which licensees are expected to protect. 10 CFR 73.55(b) and succeeding paragraphs would provide specific performance criteria for the physical security organization and response elements. As described in SECY-99-241, a new sub-section of 10 CFR 73.55 would require periodic drills and exercises and corrective actions for vulnerabilities identified in the exercises.

The above performance criteria represent a new concept in formulating security programs and align security with other areas of regulation involving plant operations. This approach would provide insights on how the remainder of 10 CFR 73.55 might be revised. The staff believes that it is important to continue to have stakeholder involvement in the early stages of development of performance criteria.

OSREs have been conducted since 1992 to test licensees' performance relative to the requirements in 10 CFR 73.55(a). The last OSRE in the current cycle is scheduled for May 2000 and with the final rule not expected to be published for three years, steps have been taken by the staff to fill the gap between May 2000 and the time when the new rule is in place. In the short-term, OSREs will continue. Then, pending NRC endorsement, an industry proposal for a Self-Assessment Program will be used on a trial basis, with NRC oversight, to pilot the performance criteria envisioned in the revised physical protection regulations.

Coordination: The Office of the General Counsel has reviewed this paper and has no legal objection to its content. The FTE and resource issues involved in this paper are already budgeted.

Recommendations: That the Commission: Approve (a) the staff's approach to re-evaluation of the power reactor physical protection regulations, and (b) the definition of radiological sabotage by providing design criteria as the basis for physical protection regulations.

Note that: Upon the Commission's approval, the staff will (a) continue with this work to implement this approach in the new security regulations; (b) test these concepts in the industry Self-Assessment Program, as appropriate; and (c) publish this paper in the Federal Register for public comment, seeking comment on the approach described above for revising 10 CFR 73.55(a).

William D. Travers,
Executive Director for Operations.

[FR Doc. 00-14685 Filed 6-8-00; 8:45 am]

BILLING CODE 7590-01-P